DEPARTMENT OF AGRICULTURE

Rural Business-Cooperative Service

Notice of Solicitation of Applications for the Biorefinery, Renewable Chemical, and Biobased Product Manufacturing Assistance Program for Federal Fiscal Year 2019; Amendment

AGENCY: Rural Business-Cooperative Service, USDA.

ACTION: Notice of solicitation of applications; amendment.

SUMMARY: The Rural Business-Cooperative Service (the Agency) published a notice in the Federal Register on August 3, 2018, announcing the acceptance of applications for funds available under the Biorefinery, Renewable Chemical, and Biobased Product Manufacturing Assistance Program for Fiscal Year (FY) 2019. The Agricultural Improvement Act of 2018 (2018 Farm Bill) provides funding for the program for FY 2019 and expands the eligible technology definition. This notice provides an amendment to Section III. Eligibility Information, subsection C. Eligible Projects, to include the definition.

FOR FURTHER INFORMATION CONTACT: For information about this Notice, please contact Aaron Morris, Assistant Deputy Administrator, USDA Rural Development, Energy Programs, 1400 Independence Avenue SW, Stop 3225, Room 6901, Washington, DC 20250. Telephone:(202) 720-1501. Email: aaron.morris@wdc.usda.gov.

SUPPLEMENTARY INFORMATION: In the Federal Register on August 3, 2018 (83 FR 38119), make the following amendment:

In the third column on page 38120, under Section III Eligibility Information, subsection C. Eligible Projects, add the following:

In addition, the Agricultural Improvement Act of 2018 (2018 Farm Bill), amends the definition of `eligible technology' to allow applicants to submit for funding projects for the development, construction and retrofitting of commercial-scale biorefineries using technologies that produce any 1 or more, or a combination, of an advanced biofuel, renewable chemical, or biobased product.

Bette B. Brand,
Administrator, Rural Business-Cooperative Service.

[FR Doc. 2019-08118 Filed 4-22-19; 8:45 am]

BILLING CODE 3410-XY-P